DEPARTMENT OF JUSTICE

Notice of Lodging of Consent Decree Under the Clean Air Act

Notice is hereby given that on October 2, 2007, a proposed Consent Decree in United States et al. v. Evergreen Pulp, Inc., Civil Action No. C 07-05067 SBA, was lodged with the United States District Court for the Northern District of California.

In this acton the United States, the California Air Resources Board (ARB) and the North Coast Air Quality Management District (NCAQMD) sought civil penalties and injunctive relief under the Clean Air Act and state law against Evergreen Pulp, Inc. at its wood pulp mill located in Samoa, California. The Consent Decree requires Evergreen Pulp, Inc. to: (1) Pay a civil penalty of $300,000 to the United States; (2) pay a civil penalty of $300,000 to ARB; (3) pay a civil penalty of $300,000 to NCAQMD; and (4) install air pollution control equipment.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, with a copy to Ann Hurley, U.S. Department of Justice, 301 Howard Street, Suite 1050, San Francisco, CA 94105, and should refer to United States et al. v. Evergreen Pulp, Inc., D.J. Ref. #90-5-2-17-08786.

The Consent Decree may be examined at U.S. EPA Region 9, Office of Regional Counsel, 75 Hawthorne Street, San Francisco, California. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.75 (25 cents per page reproduction cost) payable to the U.S. Treasury or, if by e-mail or fax, forward a check in that amount to the Consent Decree Library at the stated address.

Henry Friedman,
Assistant Chief, Environmental Enforcement Section, Environment and Natural Resources Division.

[FR Doc. 07-5024 Filed 10-11-07; 8:45 am]

BILLING CODE 4410-15-M